Title 3—

The President

Proclamation 7723 of October 17, 2003

National Forest Products Week, 2003

By the President of the United States of America

A Proclamation

Our forests are a source of pride for our Nation. They benefit many Americans who depend on healthy forests for their livelihoods and quality of life. As we celebrate National Forest Products Week, we recognize the importance of our forest resources. We remain committed to sound, commonsense, forest management.

Beyond their scenic beauty, our forests are vital to our economy and our way of life. Numerous jobs in the manufacturing and construction industries, as well as in the forest products industries, rely on the health and sustainability of our forests. Forests provide lumber for building our homes, they provide paper for publishing our books and newspapers, and forests are the source of many other wood and paper products that Americans use every day.

We have a responsibility to maintain the health and productivity of our forests. In the past, forests have been spoiled by overgrowth, decimated by insects and disease, and devastated by wildfires. My Administration's Healthy Forests Initiative will help prevent this kind of destruction. Aided by this Initiative, we treated nearly 2.6 million acres of forests during the last fiscal year to reduce dangerous overgrowth and restore forest health. This is more than double the number of acres that were treated 3 years ago. My Administration is also committed to fulfilling the promise of the 1994 Northwest Forest Plan to protect our most sensitive forest areas, while supporting a viable forest products industry and jobs in rural America. By encouraging active forest management and sustainable timber harvesting, we strengthen our economy and ensure the lasting beauty of our woodlands.

Recognizing the importance of our forests in ensuring the long-term welfare of our Nation, the Congress, by Public Law 86-753 (36 U.S.C. 123), as amended, has designated the week beginning on the third Sunday in October of each year as “National Forest Products Week” and has authorized and requested the President to issue a proclamation in observance of this week.

NOW, THEREFORE, I, GEORGE W. BUSH, President of the United States of America, do hereby proclaim October 19 through October 25, 2003, as National Forest Products Week. I call upon all Americans to observe this week with appropriate ceremonies and activities.

IN WITNESS WHEREOF, I have hereunto set my hand this seventeenth day of October, in the year of our Lord two thousand three, and of the Independence of the United States of America the two hundred and twenty-eighth.

B

[FR Doc. 03-26830

Filed 10-21-03; 9:20 am]

Billing code 3195-01-P